DEPARTMENT OF HEALTH AND HUMAN SERVICES

National Institutes of Health

National Institute of Nursing Research; Notice of Closed Meetings

Pursuant to section 1009 of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Nursing Research Initial Review Group.

Date: February 22-23, 2024.

Time: 9:00 a.m. to 12:00 p.m.

Agenda: To review and evaluate grant applications.

Place: Canopy by Hilton, Washington, DC, Bethesda North, 940 Rose Avenue, North Bethesda, MD 20852 (Hybrid Meeting).

Contact Person: Joshua R. Wolff, Ph.D., Scientific Review Officer, Scientific Review Branch, National Institute of Nursing Research, NIH, 6701 Democracy Boulevard, Bethesda, MD 20817, (301) 793-5758, josh.wolff@nih.gov.

Name of Committee: National Institute of Nursing Research Special Emphasis Panel: Firearm Injury Prevention and Community Healthcare RFA Review Meeting.

Date: February 28, 2024.

Time: 10:00 a.m. to 2:00 p.m.

Agenda: To review and evaluate grant applications.

Place: National Institute of Nursing Research, 6700B Rockledge Drive, Bethesda, MD 20892 (Virtual Meeting).

Contact Person: Nisan Bhattacharyya, Ph.D., Scientific Review Officer, Scientific Review Branch, National Institute of Nursing Research, NIH, 6701 Democracy Boulevard, Suite 668, Bethesda, MD 20892, 301-451-2405, nisan.bhattacharyya@nih.gov.

(Catalogue of Federal Domestic Assistance Program Nos. 93.361, Nursing Research, National Institutes of Health, HHS)

Dated: January 17, 2024.
Victoria E. Townsend,
Program Analyst, Office of Federal Advisory Committee Policy.

[FR Doc. 2024-01289 Filed 1-23-24; 8:45 am]

BILLING CODE 4140-01-P